COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete service(s) from the Procurement List that were furnished by nonprofit agencies employing persons who are blind or have other severe disabilities.

DATES: Comments must be received on or before: September 18, 2022.

ADDRESSES: Committee for Purchase From People Who Are Blind or Severely Disabled, 325 E Street SW, Suite 325, Washington, DC 20024.

FOR FURTHER INFORMATION CONTACT: For further information or to submit comments contact: Michael R. Jurkowski, Telephone: (703) 785-64041 email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following service(s) are proposed for deletion from the Procurement List:

Service(s)

Service Type: IT Support Services

Mandatory for: Defense Health Agency, Solution Delivery Division, 7700 Arlington Blvd., Falls Church, VA

Designated Source of Supply: Global Connections to Employment, Inc., Pensacola, FL

Contracting Activity: DEFENSE HEALTH AGENCY (DHA), DEFENSE HEALTH AGENCY

Michael R. Jurkowski,
Acting Director, Business Operations.

[FR Doc. 2022-17886 Filed 8-18-22; 8:45 am]

BILLING CODE 6353-01-P